FEDERAL MARITIME COMMISSION

Notice of Agreements Filed

The Commission hereby gives notice of filing of the following agreements under the Shipping Act of 1984. Interested parties may submit comments, relevant information, or documents regarding the agreements to the Secretary by email at Secretary@fmc.gov, or by mail, Federal Maritime Commission, 800 North Capitol Street, Washington, DC 20573. Comments will be most helpful to the Commission if received within 12 days of the date this notice appears in the Federal Register, and the Commission requests that comments be submitted within 7 days on agreements that request expedited review. Copies of agreements are available through the Commission's website (www.fmc.gov) or by contacting the Office of Agreements at (202)-523-5793 or tradeanalysis@fmc.gov.

Agreement No.: 011075-083.

Agreement Name: Central America Discussion Agreement.

Parties: Crowley Latin America Services, LLC: Dole Ocean Cargo Express, LLC; Great White Fleet Corp.; Great White Fleet Liner Service, Ltd.; King Ocean Services Limited, Inc.; Seaboard Marine Ltd.; and Tropical Shipping & Construction Co., Ltd.

Filing Party: Wayne Rohde; Cozen O'Connor.

Synopsis: The amendment updates the addresses of King Ocean and Great White Fleet.

Proposed Effective Date: 8/26/2023.

Location: https://www2.fmc.gov/FMC.Agreements.Web/Public/AgreementHistory/1332.

Agreement No.: 201406.

Agreement Name: HMM HLC PSX Space Charter Agreement.

Parties: Hapag Lloyd AG; HMM Co. Ltd.

Filing Party: Joshua Stein; Cozen O'Connor.

Synopsis: The agreement authorizes HMM to charter space to Hapag LLoyd on HMM's service between ports in the Republic of Korea and China on the one hand and ports on the U.S. Pacific Coast on the other hand.

Proposed Effective Date: 8/27/2023.

Location: https://www2.fmc.gov/FMC.Agreements.Web/Public/AgreementHistory/83505.

Dated: July 14, 2023.
JoAnne O'Bryant,
Program Analyst.

[FR Doc. 2023-15296 Filed 7-18-23; 8:45 am]

BILLING CODE 6730-02-P